DEPARTMENT OF THE INTERIOR

National Park Service

[NPS-WASO-BSD-CONC-NPS0028083; PPWOBSADC0, PPMVSCS1Y.Y00000 (200), OMB Control Number 1024-0268]

Agency Information Collection Activities; Commercial Use Authorizations

AGENCY: National Park Service, Interior.

ACTION: Notice of information collection; request for comment.

SUMMARY: In accordance with the Paperwork Reduction Act of 1995, we, the National Park Service (NPS) are proposing to renew an information collection with revisions.

DATES: Interested persons are invited to submit comments on or before December 27, 2019.

ADDRESSES: Send written comments on this information collection request (ICR) to the Office of Management and Budget's (OMB) Desk Officer for the Department of the Interior by email at OIRA_Submission@omb.eop.gov; or by facsimile at 202-395-5806. Please provide a copy of your comments to Phadrea Ponds, Information Collection Clearance Officer, National Park Service, 1201 Oakridge Drive, Fort Collins, CO 80525; or by email at phadrea_ponds@nps.gov. Please reference OMB Control Number 1024-0268 in the subject line of your comments.

FOR FURTHER INFORMATION CONTACT: To request additional information about this ICR, contact Samantha Towery, National Park Service, 12795 West Alameda Parkway, Lakewood, CO 80228; or by email at Samantha_Towery@nps.gov. Please reference OMB Control Number 1024-0268 in the subject line of your comments. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

On May 28, 2019, we published a Federal Register notice soliciting comments on this collection of information for 60 days, ending on July 29, 2019 (84 FR 24539). The NPS received 17 comments from the 60-day Federal Register notice. We have summarized the comments received into the following seven categories:

1. Comments Unrelated to the ICR

Comments received regarding the proposed changes to NPS commercial tour fees that did not specifically address the information collection or matters specifically related to the forms.

NPS Response: The Federal Register Notice you've referenced is only about the continued use of the commercial use authorization (CUA) application and reporting forms. The approval of these forms is separate from the issues related to commercial tour fees and requirements. Only comments related to the application and reporting forms will be recorded as a part of the record for this collection. All other comments will be forwarded to the CUA program for its records.

All federal agencies with forms designed to collect information from the public are required to obtain approval of those forms from the Office of Management and Budget every three years in order for the agency to continue to use the forms. So, again, this is ONLY about the form and not commercial tour fees and requirements.

2. Administrative Burden Due to Increased Paperwork or Fees

Comments were received from road-based commercial tour industry related to the administrative burden and fees charged to road-based commercial tour operators during the CUA application and reporting process.

NPS Response: The NPS requires all types of commercial operators to complete the same OMB approved CUA applications and reporting forms and Public Law 105-391, Section 418 requires the collection of a reasonable fee for associated administrative and management costs. The CUA application and reporting forms gather the minimum key information necessary for NPS to determine the capability, resources, and fitness of the applicant to provide the service. It also gathers the minimum amount of information needed to ensure the activity does not have more than a minimal impact on park resources and values. In response to this feedback, NPS completed a burden assessment to determine standard administrative and management fees for road-based commercial tour CUAs and will set the standard road-based commercial tour CUA application fee to allow for legislatively required cost recovery. Again, this process is only about the forms, not commercial tour fees.

3. Financial Burden Due to CUA Permit Fee or Entry Fee

Comments from destination marketing organizations suggested that the new CUA requirements would impose increased financial burdens on local businesses.

NPS Response: Public Law 105-391, Section 418 requires the collection of a reasonable fee for administrative and management costs associated with issuing and managing commercial use authorizations (CUAs).

Entrance fees are managed by another NPS program and are separate from the issues related to commercial tour CUA fees and requirements. Only comments related to the CUA application and reporting forms will be recorded as a part of the record for this collection.

4. Concern Regarding Sharing Financial Earning Information With NPS

Comments received from commercial tour operators suggested that reporting on annual financial earnings posed an undue burden on CUA applicants.

NPS Response: The CUA annual report collects service activity (visitors served), gross annual revenues, and injury information. The required financial information is very simple and there are no requirements for audited financial statements, advanced recordkeeping, or retention of records beyond what the IRS requires. The required financial information allows the NPS to determine that a CUA holder is not exceeding the legislatively mandated financial limits for in-park operations (gross receipts not to exceed $25,000). The NPS maintains this operational information and, with the exception of the visitor use statistics, will release other information only as request by law. NPS will not routinely disseminate financial information about individual CUA holders. NPS does report information collectively at the park, regional, or national level (e.g., number of CUA's, reported revenue, fees retained by NPS, etc.).

5. Negative Impact on Group Visits Due to Proposed Fees Associated With the Collection

Comments received from commercial tour operators suggested that an increased fee associated with the CUA would substantially reduce the number of visitors accessing parks through third party tour services.

NPS Response: Public Law 105-391, Section 418 requires the collection of a reasonable fee for administrative and management costs associated with issuing and managing commercial use authorizations. The information required by the forms does not affect the ability of anyone to come to a park. These forms implement the administrative process of allowing and managing commercial uses in units of the National Park System.

6. Ambiguous or Opaque Rules, Procedures, or Deadlines

Comments received from commercial service providers the suggested reporting burden of the CUA was prohibitive in the level of detail requested to process applications.

NPS Response: The legislative mandate of the National Park Service (NPS), found in 54 U.S.C. 100101(a), is to preserve America's natural wonders unimpaired for future generations, while also making them available for the enjoyment of visitors. Meeting this mandate requires the NPS to balance preservation with use. Maintaining a good balance requires CUA management at the unit-level. Unit managers must evaluate commercial uses to determine the impact on the resources and the appropriateness of the activity to ensure the impact does not exceed the legislatively allowed minimum impact. Units vary in staffing levels and seasonality so CUA application seasons vary. Some units have firm deadlines and some do not, though CUA applicants may always contact a unit directly to determine if it will accept late applications. Units post application acceptance dates on websites well in advance.

During the past four and a half years, NPS has provided online trainings, frequently updates Q&As, and has participated in numerous meetings with the road-based commercial tour industry. The NPS believes it has been transparent and continues to engage so the industry is prepared for CUA requirements and fees.

7. Impractical Information Requested on Form, Specifically Mentioned Insurance Documentation Requirements

Comments received from road-based commercial tour industry expressed difficulty in furnishing Commercial Vehicle Insurance maintained by chartered motor coaches external to the tour operator.

NPS Response: Public Law 105-391, Section 418 requires the NPS to limit the liability of the United States arising from activities under CUA's. NPS implements this requirement, in part, by requiring all commercial operators conducting business in a unit of the National Park System to carry and maintain the appropriate categories of insurance and minimum amounts of coverage. CUA holders must have commercial general liability as well as other coverages specific to the commercial operation, including commercial automobile insurance. NPS has determined the minimum general commercial liability policy limit is $500,000 per occurrence. Higher risk operations have increased minimums ultimately determined by the unit manager. Minimum commercial automobile liability policy limits are determined by state requirements for intrastate operations and the Federal Motor Carrier Safety Act.

We are again soliciting comments on the proposed ICR described below. We are especially interested in public comment addressing the following issues: (1) Is the collection necessary to the proper functions of the NPS; (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The purpose of the forms in this information collection is to assist the NPS in managing the Commercial Use Authorization Program. Section 418, Public Law 105-391 (54 U.S.C. 101925) specifies that the Secretary of the Interior has the authority to approve a private person, corporation, or other entity to provide services to visitors in units of the National Park System through a commercial use authorization (CUA). The information collected will allow the NPS to evaluate requests for a CUA and determine the suitability of the applicants to provide safe, effective, and appropriate services to the visiting public.

This renewal includes a request to collect information using a new form, 10-550s, “Commercial Use Authorization—Short Term.” This form proposes to streamline the application process for companies who wish to operate for seven days or less within a park. The form will be used for one-time events, such as vendors during farmer's markets. The proposed form will collect the minimum amount of information necessary to grant short-term authorizations and is significantly shorter than the 10-550 application form.

We made adjustments in hour and cost burden estimates because the number of received CUA applications fluctuates on a yearly basis. Over the last three years the NPS has seen annual decrease of approximately 100 CUA applicants.

Based on public comments received, the NPS is requesting to add Form 10-550s, “Commercial Use Application—Short-Term' to this collection. This form proposes to streamline the application process for short-term CUAs applicants requesting one-time events or for operations lasting seven days or less. The proposed 10-550s, will collect the information necessary to meet legislative requirements allowing NPS to manage services provided by CUAs, while reducing the application burden on CUA applicants.

Based on our experiences with annual and monthly reports, we have revised the number of responses that resulted in a change in the burden hours

• Form 10-550—In 2016, NPS estimated the number of CUA applicants at 5,900. Based on the number of applications received between 2016 and 2019, NPS now assumes it will receive approximately 5,880 CUA applications (Form 10-550) annually. The net decrease of 100 responses results in the net decrease of 250 burden hours.

• Form 10-550s—This is a new form that will cause a net increase of 120 responses and 180 burden hours.

• Form 10-660—Annual Report—Based upon the revised estimated number of Form 10-550, we expect to receive 5,900 reports which will cause a net decrease of 100 respondents submitting annual reports causing a net increase decrease of 125 hours.

• Form 10-660A—Monthly Report—In 2016, NPS estimated it would receive Form 10-660A from 5,900 CUA holders 9 months out of the year, equating to 53,1000 total responses and 39,825 burden hours. This overestimated because NPS assumed all CUA holders would submit Form 10-660A. Currently, approximately 10% of CUA holders are required by NPS units to submit Form 10-660. The reduction of 920 responses resulted in a net decrease of 625 hours.

We are requesting approval to use the following NPS forms: 10-550, “Commercial Use Authorization Application,” 10-660, “Commercial Use Authorization Annual Report,” and 10-660A, “Commercial Use Authorization Monthly Report.” to:

• Manage the program and operations.

• Determine the qualifications and abilities of the commercial operators to provide a high quality, safe, and enjoyable experience for park visitors.

• Determine the impact on the park's natural and cultural resources.

• Manage the use and impact of multiple operators.

Regulations resulting in information collection required for a CUA include:

• 36 CFR 1.6—Permits;

• 36 CFR 2—Resource Protection, Public Use and Recreation;

• 36 CFR 5—Commercial and Private Operations;

• 36 CFR 7—Special Regulations;

• 36 CFR 13—National Park System Units in Alaska.

Title of Collection: Commercial Use Authorizations.

OMB Control Number: 1024-0268.

Form Number: 10-550, “Commercial Use Authorization;” 10-550s “Commercial Use Authorization—Short Term;” 10-660, “Commercial Use Authorization Annual Report;” and 10-660A, “Commercial Use Authorization Monthly Report.”

Type of Review: Revision of a currently approved collection.

Respondents/Affected Public: Individuals or small businesses that wish to provide commercial services to visitors in areas of the National Park System.

Respondent's Obligation: Required to Obtain or Retain a Benefit.

Frequency of Collection: On occasion.

Total Estimated Annual Nonhour Burden Cost: $1,480,000 ($250 × 6,000 Forms 10-550, “Commercial Use Authorization Application” per year).

Activity | Number of annual responses | Completion time per response | Total annual hours
Form 10-550—Application | 5,880 | 2.5 hours | 14,700
Form 10-550s—Application Short-Term | 120 | 1.5 hours | 180
Form 10-660—Annual Report (incl. recordkeeping) | 5,800 | 1.25 hours | 7,250
Form 10-660A—Monthly Report (incl. recordkeeping) | 52,200 | 45 minutes | 39,150
Totals | 63,920 |  | 61,080

An agency may not conduct or sponsor and a person is not required to respond to a collection of information unless it displays a currently valid OMB control number. The authority for this action is the Paperwork Reduction Act of 1995 (44 U.S.C. 3501 et seq.).

Phadrea Ponds,
Acting NPS Information Collection Clearance Officer, National Park Service.

[FR Doc. 2019-25782 Filed 11-26-19; 8:45 am]

BILLING CODE 4312-52-P